DEPARTMENT OF DEFENSE

Office of the Inspector General

Privacy Act of 1974; System of Records

AGENCY: Office of the Inspector General, DoD.

ACTION: Notice to add and delete systems of records.

SUMMARY: The Office of the Inspector General, DoD is adding a system of records notice to its existing inventory of record systems subject to the Privacy Act of 1974, (5 U.S.C. 552a), as amended, and deleting a system of records.

DATES: This proposed action will be effective without further notice on December 30, 2002, unless comments are received which result in a contrary determination.

ADDRESSES: Office of the Inspector General, Department of Defense, 400 Army Navy Drive, Arlington, VA 22202-4704.

FOR FURTHER INFORMATION CONTACT: Mr. Gary Dressel at (703) 604-8920.

SUPPLEMENTARY INFORMATION: The Office of the Inspector General, DoD systems of records notices subject to the Privacy Act of 1974, (5 U.S.C. 552a), as amended, have been published in the Federal Register and are available from the address above.

The proposed system report, as required by 5 U.S.C. 552a(r) of the Privacy Act of 1974, as amended, was submitted on November 13, 2002, to the House Committee on Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: November 18, 2002.
Patricia L. Toppings,
Alternate OSD Federal Register Liaison Officer, Department of Defense.

Deletion

CIG-07

System Name:

Decision Support System (DSS)—OAIG-AUD (February 22, 1993, 58 FR 10213).

Reason:

The records are being consolidated into the Inspector General system of records CIG 20, entitled “Defense Audit Management Information System (DAMIS).”

Addition

CIG-20

System Name:

Defense Audit Management Information System (DAMIS).

System Location:

Soza and Company, Ltd., 8550 Arlington Boulevard, Fairfax, VA 22031-4634.

Categories of Individuals Covered by the System:

All active personnel employed by the Office of the Assistant Inspector General for Auditing, the Naval Audit Service, the Army Audit Agency, and the Air Force Audit Agency.

Categories of Records in the System:

Individual's name, current employment status, training courses scheduled and received, pay grade, handicap code, duty address, security clearance, audit project position, education, number of training days, entered on duty date, date of release, and employee status code.

Authority for Maintenance of the System:

5 U.S.C. 301, Departmental Regulations; DoD Directive 5106.1, Inspector General of the Department of Defense; and DoD Directive 8320.1, DoD Data Administration.

Purpose(s):

Information is used to maximize staff resources and to provide audit cost summary data; to track staff hours allocated towards audit preparation and active audit projects which will allow for more effective scheduling of unassigned personnel and to categorize indirect time expended for end-of-year reporting; to plan workloads, to schedule travel, and to control travel costs on assigned audit projects; to assist in providing time and attendance to the centralized payroll system; and to schedule and track training.

Routine Uses of Records Maintained in the System, Including Categories of Users and the Purposes of Such Uses:

In addition to those disclosures generally permitted under 5 U.S.C. 552a(b) of the Privacy Act, these records or information contained therein may specifically be disclosed outside the DoD as a routine use pursuant to 5 U.S.C. 552a(b)(3) as follows:

The DoD “Blanket Routine Uses” set forth at the beginning of the OIG compilation of systems of records notices also apply to this system.

Policies and Practices for Storing, Retrieving, Accessing, Retaining, and Disposing of Records in the System:

Storage:

Automated records are maintained on electronic storage media/magnetic tape.

Retrievability:

Records are retrieved by individual's name.

Safeguards:

Access to DAMIS is protected through the use of assigned user/ID's and passwords for entry to the different subsystem applications. Once entry is acknowledged by the system, individual(s) are only allowed to perform predefined transactions/processes on files according to their access levels and functionality.

Retention and Disposal:

Disposition pending (until the National Archives and Records Administration has approved a retention and disposal schedule for these records, treat the records as permanent).

System Manager(s) and Address:

Technical Director, Analysis, Planning, and Quality Assurance Division, Office of the Assistant Inspector General for Auditing, Office of the Inspector General, DoD, 400 Army Navy Drive, Arlington, VA 22202-4704.

Notification Procedure:

Individuals seeking access to records about themselves contained in this system of records should address written requests to the Chief, Freedom of Information Act/Privacy Act Office, 400 Army Navy Drive, Arlington, VA 22202-4704.

Written request should contain the individual's full name, signature and work organization.

Record Access Procedures:

Individuals seeking access to records about themselves contained in this system of records should address written requests to the Chief, Freedom of Information Act/Privacy Act Office, 400 Army Navy Drive, Arlington, VA 22202-4704.

Written request should contain the individual's full name, signature and work organization.

Contesting Record Procedures:

The OIG's rules for accessing records and for contesting contents and appealing initial agency determinations are published in 32 CFR part 312 or may be obtained from the system manager.

Record Source Categories:

From the subject individual and activity supervisors.

Exemptions Claimed for the System:

None.

[FR Doc. 02-29819 Filed 11-27-02; 8:45 am]

BILLING CODE 5001-08-P